DEPARTMENT OF HEALTH AND HUMAN SERVICES

Health Resources and Services Administration

Agency Information Collection Activities; Proposed Collection; Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Evaluation of the Frontier Community Health Care Network Coordination Grant.

OMB No.: 0915-XXXX—New.

Abstract: In fiscal year (FY) 2012, ORHP funded an evaluation of the Frontier Community Health Care Network Coordination (FCHCNC) Grant. This 3-year grant program awarded to the Montana Department of Public Health and Human Services focuses on a community-based, patient-centered clinical service coordination and health promotion model. The program will be coordinated by clinically trained Care Transitions Coordinators (CTC) working with Community Health Workers (CHW) in 11 participating network communities. By developing intervention with patients, the CTCs and CHWs will work to improve care transitions and patient outcomes by reducing or eliminating avoidable hospitalizations and re hospitalizations, ER visits, and nursing home placements.

Need and Proposed Use of the Information: The program will be subject to a 3-year independent evaluation. As part of this 3-year evaluation, HRSA will be collecting qualitative and quantitative information. To support the qualitative analysis, HRSA will conduct site visits and telephonic key informant interviews with the critical access hospitals, tertiary hospitals, and the support staff coordinating the program. Data collection will focus on patient/family satisfaction, whether goals were achieved in working with patients, and the strengths and challenges associated with implementing the program. Finally, HRSA will be collecting data quarterly from the grantee sites in order to gain a deeper understanding of the program's implementation.

Additionally, quantitative data will be gathered by studying the effectiveness of each intervention, specifically identifying differences between pre and post-intervention health care utilization, hospital readmissions, and other client-specific outcomes. Where data are available, HRSA will assess cost effectiveness of the program.

Likely Respondents: Frontier Community Health Care Network Coordination (FCHCNC) Grantees.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Patient Satisfaction Survey | 85 | 1 | 85 | .1 | 8.5
Hospital Administrator Interview Protocol | 22 | 1 | 22 | .5 | 11
Primary care Provider Interview Protocol | 22 | 1 | 22 | .5 | 11
Community Health Worker Interview Protocol | 12 | 1 | 12 | 1.0 | 12
Care Transitions Coordinator Interview Protocol | 1 | 1 | 1 | 1.0 | 1
Grantee Interview Protocol | 2 | 1 | 2 | .5 | 1
Patient Interview/Focus Group Protocol | 22 | 1 | 22 | .5 | 11
Grantee Data Collection Form | 11 | 4 | 44 | 4 | 176
Total | 177 |  |  |  | 231.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: August 28, 2013.
Bahar Niakan,
Director, Division of Policy and Information Coordination.

[FR Doc. 2013-21566 Filed 9-4-13; 8:45 am]

BILLING CODE 4165-15-P